DEPARTMENT OF JUSTICE

Drug Enforcement Administration

[Docket No. DEA-392]

Manufacturer of Controlled Substances Registration: Rhodes Technologies

ACTION: Notice of registration.

SUMMARY: Rhodes Technologies applied to be registered as a manufacturer of certain basic classes of controlled substances. The Drug Enforcement Administration (DEA) grants Rhodes Technologies registration as a manufacturer of those controlled substances.

SUPPLEMENTARY INFORMATION: By notice dated August 21, 2015, and published in the Federal Register on August 31, 2015, 80 FR 52511, Rhodes Technologies, 498 Washington Street, Coventry, Rhode Island 02816 applied to be registered as a manufacturer of certain basic classes of controlled substances. No comments or objections were submitted for this notice.

The DEA has considered the factors in 21 U.S.C. 823(a) and determined that the registration of Rhodes Technologies to manufacture the basic classes of controlled substances is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 823(a), and in accordance with 21 CFR 1301.33, the above-named company is granted registration as a bulk manufacturer of the following basic classes of controlled substances:

Controlled substance | Schedule
Tetrahydrocannabinols (7370) | I
Dihydromorphine (9145) | I
Methylphenidate (1724) | II
Codeine (9050) | II
Dihydrocodeine (9120) | II
Oxycodone (9143) | II
Hydromorphone (9150) | II
Hydrocodone (9193) | II
Levorphanol (9220) | II
Morphine (9300) | II
Oripavine (9330) | II
Thebaine (9333) | II
Oxymorphone (9652) | II
Noroxymorphone (9668) | II
Tapentadol (9780) | II
Fentanyl (9801) | II

The company plans to manufacture the listed controlled substances in bulk for conversion and sale to dosage form manufacturers.

In reference to drug code 7370 the company plans to bulk manufacture synthetic tetrahydrocannabinols. No other activity for this drug code is authorized for this registration.

Dated: January 11, 2016.
Louis J. Milione,
Deputy Assistant Administrator.

[FR Doc. 2016-00781 Filed 1-15-16; 8:45 am]

BILLING CODE 4410-09-P